DEPARTMENT OF AGRICULTURE

Office of Inspector General

Privacy Act of 1974; Systems of Records

AGENCY: Office of Inspector General, USDA.

ACTION: Notice of modified systems of records.

SUMMARY: The U.S. Department of Agriculture (USDA), Office of Inspector General (OIG) proposes to amend its systems of records by modifying six existing routine uses, adding one new routine use applicable to all systems of records, and making technical changes and corrections to its existing system of records notices. Based on these amendments, and to conform all system of records notices to the template prescribed by the Office of the Federal Register and the Office of Management and Budget, USDA OIG is re-publishing all of its system of records notices in their entirety.

DATES: Comments must be received on or before November 14, 2022. The new and modified routine uses and the substantive modifications and technical revisions to USDA OIG's systems of records, will be applicable on November 14, 2022, unless USDA OIG receives comments and determines that changes to the system of records notices are necessary.

ADDRESSES: You may submit comments, identified by docket number OIG-2022-0001 by one of the following methods:

• Federal eRulemaking Portal: https://www.regulations.gov. Follow the instructions for submitting comments.

• Email: comments@oig.usda.gov.

• Fax: (202) 690-1528.

• Mail: Christy A. Slamowitz, Counsel to the Inspector General, U.S. Department of Agriculture, 1400 Independence Avenue SW, STOP 2308, Washington, DC 20250-2308.

• Instructions: All submissions received must include the agency name and docket number. All comments received will be posted without change to https://www.regulations.gov, including any personal information provided.

• Docket: For access to the docket or to read background documents or comments received, go to https://www.regulations.gov.

FOR FURTHER INFORMATION CONTACT: For general questions and for privacy issues please contact: Cyrus Geranmayeh, Assistant Counsel to the Inspector General, USDA OIG, (202) 720-9110.

SUPPLEMENTARY INFORMATION: On August 13, 2015, USDA OIG published in the Federal Register all of USDA OIG's system of records notices (SORNs) in a single document based on several updates to the agency's systems of records and for the convenience of interested parties (80 FR 48476). Appendix A to the SORNs, which sets forth the regional office and sub-office locations of USDA OIG Systems of Records USDA/OIG-1, USDA/OIG-2, USDA/OIG-3, USDA/OIG-5, and USDA/OIG-9, also was updated and published in full on August 13, 2015 (80 FR 48488). USDA OIG modified and published its SORN for System of Records USDA/OIG-8 in its entirety on January 23, 2017 (82 FR 7795).

Pursuant to the Privacy Act of 1974 (5 U.S.C. 552a) and OMB Circular No. A-108, USDA OIG has reviewed its Privacy Act SORNs and has determined that it needs to update current language for several notice section headings. USDA OIG is making the changes to clarify descriptions of existing systems and the records maintained in each system. In addition to the specific amendments described for each system below, USDA OIG is applying the following three modifications to all systems of records: (1) replacing the term “computerized” with “electronic” when describing the storage of records in the system; (2) adding that access to electronic and paper records is limited to those individuals with a “need to know” for the performance of their official duties; and (3) updating the system location for the data centers maintaining electronic records. USDA OIG determined that adopting the term “electronic” provides a more inclusive and more precise description of the storage practices in place for each system, and incorporating the “need to know” requirement clarifies a comprehensive access limitation that complements existing physical, administrative, and technical safeguards. Finally, since USDA OIG published its SORNs on August 13, 2015, USDA OIG no longer maintains computer servers at the USDA OIG headquarters offices.

Additionally, for Systems of Records USDA/OIG-2, USDA/OIG-3, USDA/OIG-4, USDA/OIG-8, and USDA/OIG-9, USDA OIG is updating its procedures for accessing and contesting records originally collected by other Federal agencies and maintained in USDA OIG's systems. Specifically, USDA OIG will coordinate with the appropriate Federal agency or consult the applicable agency SORN for such purposes.

USDA OIG also determined that it needs to modify six existing routine uses and to add one new routine use applicable to all of USDA OIG's systems of records to share information with other Federal agencies or Federal entities, as required by OMB Memorandum No. M-17-12, “Preparing for and Responding to a Breach of Personally Identifiable Information,” dated January 3, 2017, to assist USDA OIG in preventing, minimizing, or remedying the risk of harm to the requesters, USDA OIG, the Federal Government, or national security. USDA OIG has determined that the release of information for the purposes provided in the new and modified routine uses is a necessary and proper use of the information in the systems of records and is compatible and consistent with the purpose for which the records are collected. Finally, USDA OIG is replacing the term “OIG” with “USDA OIG” for all routine uses to ensure consistency with other sections of the Federal Register publication.

System of Records USDA/OIG-6 was reserved when the other system notices were published in full on August 13, 2015 (80 FR 48476). Although it is not being modified in this publication, we are including it again to avoid confusion regarding its continued reserved status.

Revised System of Records—Employee Records—USDA/OIG-1 (Amendment to Notice)

USDA OIG is updating the purpose section to clarify that the system includes both current and historical records, and covers current and former USDA OIG employees. Since the notice for this system was last published on August 13, 2015, USDA OIG relocated its Office of Compliance and Integrity (OCI) to the headquarters offices; therefore, USDA OIG is deleting OCI's former physical address in Beltsville, Maryland, from the system location section. USDA OIG also is adding the following records categories to more appropriately reflect the scope of information maintained in the system: employee work schedules; Service Computation Dates; birth dates; veteran status; applicable pension system; life insurance benefits; and requests for accommodations. The retrieval practices for this system are being updated to indicate that, in addition to the existing personal identifiers, records may be retrieved by an employee identification number. USDA OIG also is clarifying that agency employees may access electronic records using their personal identity verification (PIV) card or a username and password, including through the agency's virtual private network (VPN). Finally, based on updates to the General Records Schedules issued by the National Archives and Records Administration (NARA), USDA OIG is revising references to the records retention and disposal policies to reflect the new schedules.

Revised System of Records—Confidential Human Source and Undercover Agent Records—USDA/OIG-2 (Amendment to Notice)

USDA OIG is revising the system name by replacing the term “Informant” with “Confidential Human Source” to align with USDA OIG's relevant internal directive and related Department of Justice guidance titled “Attorney General's Guidelines Regarding the Use of FBI Confidential Human Sources,” issued December 13, 2006. Since the notice for this system was last published on August 13, 2015, USDA OIG relocated its Office of Compliance and Integrity (OCI) to the headquarters offices; therefore, USDA OIG is deleting OCI's former physical address in Beltsville, Maryland from the system location section. USDA OIG also is updating the system manager section to include reference to the Director, OCI. USDA OIG also is amending the section regarding the retrieval of system records to explain that in addition to the name of a confidential human source, investigative operative, or USDA OIG special agent, records may be retrieved by identifying numbers assigned to such individuals; moreover, both identifiers also pertain to other law enforcement agency personnel involved in undercover activities. Finally, USDA OIG is modifying the description of safeguards in place for records maintained in this system by clarifying that certain electronic records maintained in computer systems and applications are protected through use of usernames, passwords, and PIV cards; electronic records are maintained on other data storage devices, such as external flash or hard drives; and paper records are kept in limited access areas during duty hours and in locked offices during nonduty hours.

Revised System of Records—Investigative Files and Automated Investigative Indices System—USDA/OIG-3 (Amendment to Notice)

USDA OIG is adding references to USDA employees, USDA contractors, and other individuals and entities associated with USDA in the purpose section to clarify the scope of investigations conducted by USDA OIG. Since the notice for this system was last published on August 13, 2015, USDA OIG relocated its Office of Compliance and Integrity (OCI) to the headquarters offices; therefore, USDA OIG is deleting OCI's former physical address in Beltsville, Maryland from the system location section. USDA OIG also is updating the locations of the computer servers that are responsible for maintaining system records. USDA OIG is revising the categories of individuals covered by the system to clarify that the investigative indices and files document individuals who are the subject of preliminary inquiries, as well as the subject of investigations that are ultimately opened or declined for opening. USDA OIG also is modifying the categories of individuals covered by the system (1) to reflect that potential violations may involve administrative, civil, and/or criminal laws and regulations; (2) to replace the phrase “closely connected with” with “relevant to, or contacted as part of,” for clarity; and (3) to note that complainants also may be covered by the USDA/OIG-4 system of records. USDA OIG is adding a records category to include electronic records maintained by USDA OIG's Asset Forfeiture Unit. USDA OIG also is revising the records retrieval section to explain that the prior reference to retrieving electronic records alphabetically pertained to the subject, complainant, or USDA OIG investigator's name, and to add the retrieval practices for hard copy files. Finally, USDA OIG is clarifying the description of safeguards in place for such records by adding that protections relating to electronic records include use of a confidential username, password, and PIV card, and that files relating to closed investigations are transferred to Federal Records Centers maintained and operated by NARA.

Revised System of Records—OIG Hotline Complaint Records—USDA/OIG-4 (Amendment to Notice)

USDA OIG is amending the categories of covered individuals to clarify that the system also covers complaints or reports of violations or misconduct allegedly committed by USDA OIG personnel. USDA OIG is revising the categories of records section to clarify that (1) complaints received by USDA OIG may originate from Federal, State, or tribal agencies; (2) USDA OIG may refer complaints to Federal, State, or tribal agencies as well; and (3) the records categories include both the results of a USDA OIG review or the results of a Federal, State, or tribal agency inquiry. USDA OIG is updating the retrieval practices to indicate that records also may be retrieved by names of witnesses. Finally, USDA OIG is making a technical edit to the safeguards section by replacing “files” with “paper records” and updating the records access procedures to include use of a confidential username, password, and PIV card for access to electronic files.

Revised System of Records—Automated Reporting and General Operations Systems (ARGOS), USDA/OIG-5 (Amendment to Notice)

USDA OIG has determined that the agency no longer uses the Audit Subsystem within ARGOS to manage audit employee assignments or to facilitate reporting of USDA OIG audit activities to Congress. However, USDA OIG is maintaining references in the system notice for audit activities until existing records, including legacy information, pertaining to such activities are ultimately removed pursuant to an applicable disposition authority. USDA OIG also is adding a reference to USDA OIG contractors to appropriately reflect the categories of USDA OIG individuals and sources of records covered by the system. Following a review of the records maintained in the system, USDA OIG determined that a record retention schedule for the system is necessary; therefore, USDA OIG is clarifying that no records will be destroyed until a retention schedule approved by NARA is in place. Finally, USDA OIG is making technical changes to the storage and retrieval practices for clarity.

Revised System of Records—Freedom of Information Act and Privacy Act Request Records USDA/OIG-7 (Amendment to Notice)

USDA OIG is modifying the notice to clarify that (1) the individuals covered by the system and record source categories also include individuals who have submitted an administrative appeal, and (2) USDA OIG retrieves records from the system by requester or appellant name and/or a unique control number that USDA OIG assigned to the request or administrative appeal. Finally, based on updates to the General Records Schedules issued by NARA since USDA OIG last published its system of records notices, USDA OIG is updating the records retention and disposal policies to reflect the new schedules.

Revised System of Records—Office of Analytics and Innovation's Holistic Information Analytics and Visualization Environment (HIAVE)—USDA/OIG-8 (Amendment to Notice)

System of Records USDA/OIG-8 “Office of Data Sciences (ODS) Research Aggregated Data Analysis Repository (RADAR) System,” was last updated on January 23, 2017 (82 FR 7795). Since that date, USDA OIG has renamed ODS as the Office of Analytics and Innovation (OAI). Therefore, USDA OIG is amending the system name and system manager to reflect the new titles of the responsible office and responsible official. USDA OIG also is updating the system name by replacing “Research Aggregated Data Analysis Repository (RADAR) System” with “Holistic Information Analytics and Visualization Environment (HIAVE)” to reflect the current USDA OIG-wide data and analytics environment and its evolution since the original system of records was first established; the new system name captures the basis, intent, and use of the system. USDA OIG also is revising (1) the purpose section to clarify that OAI supports USDA OIG activities by performing advanced statistical techniques and data modeling with data USDA OIG has the legal authority to obtain, and (2) the categories of individuals and categories records maintained in the system. USDA OIG is deleting reference to “media, including periodicals, newspapers, and broadcast transcripts” in the system notice as such sources no longer provide records maintained in the system. Finally, USDA OIG is clarifying that the system no longer maintains paper records and that electronic records are protected through system usernames and passwords, use of a PIV card, and encryption.

Revised System of Records—Audit Records—USDA/OIG-9 (Amendment to Notice)

USDA OIG is updating the purpose section to clarify that in addition to the existing uses, USDA OIG maintains the system for managing employee time for each assignment, tracking training records of audit employees, and facilitating USDA OIG's external reporting requirements. USDA OIG also is deleting the following sentence from the categories of records section because USDA OIG determined it was duplicative: “The information consists of audit work papers and reports.” Finally, the technical and physical safeguards section for this system is being updated to include use of a PIV card for protecting electronic records and to replace the term “file folders” with “paper records.”

Routine Uses 1, 2, 3, 12, and 19—Technical Changes

USDA OIG is revising five existing routines uses to permit disclosure to tribal authorities for the specific purposes described for each use. USDA OIG determined the proposed revisions for each routine use more clearly recognize the sovereignty of tribal governments, which was not reflected in existing references to other agencies and public authorities. For Routine Uses 1, 2, 3, and 12, USDA OIG is revising the routine uses further to permit disclosure to law enforcement task forces; the addition will facilitate information sharing and communications that may be necessary for official purposes. Finally, for Routine Use 12, USDA OIG is removing the term “program” when describing computer matching and adding reference to other non-benefit programs administered by an agency to clarify the scope of computer matching activities covered by the routine use.

Routine Use 16 (Disclosures Relating to Information Compromises)—Technical Change

In 2007, OMB suggested that all agencies publish a routine use for appropriate systems of records specifically applying to the disclosure of information in connection with response and remedial efforts in the event of a data breach. See “Safeguarding Against and Responding to the Breach of Personally Identifiable Information,” OMB Memorandum No. M-07-16, at 11 (May 22, 2007). Accordingly, in 2008, USDA OIG added Routine Use 16 to cover such disclosures (73 FR 43398). In January 2017, OMB issued new guidance that rescinded and replaced its 2007 guidance; the new guidance provided updated model text for agencies to include as a routine use applicable to the agency's SORNs. See OMB Memorandum No. M-17-12, at 11. USDA OIG proposes revising Routine Use 16 by using the new model language that OMB recommends all agencies use.

The current language of Routine Use 16 is as follows:

16. A record from the system of records may be disclosed to appropriate agencies, entities, and persons when: (a) OIG suspects or has confirmed that the security or confidentiality of information in the system of records has been compromised; (b) USDA has determined that as a result of the suspected or confirmed compromise there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

The revised routine use will then read as follows:

16. A record from the system of records may be disclosed to appropriate agencies, entities, and persons when: (a) USDA OIG or USDA suspects or has confirmed that there has been a breach of the system of records; (b) USDA OIG has determined that as a result of the suspected or confirmed breach there is a risk of harm to individuals, USDA OIG or USDA (including their information systems, programs, and operations), the Federal Government, or national security; and (c) the disclosure made to such agencies, entities, and persons is reasonably necessary to assist in connection with USDA OIG's efforts to respond to the suspected or confirmed breach or to prevent, minimize, or remedy such harm.

Routine Use 16, as revised, will continue to apply to Systems of Records USDA/OIG-1, USDA/OIG-2, USDA/OIG-3, USDA/OIG-4, USDA/OIG-5, USDA/OIG-7, USDA/OIG-8, and USDA/OIG-9.

New Routine Use

USDA OIG proposes to add one new routine use. The new routine use (proposed 22) is proposed to allow the disclosure of information to another Federal agency or entity in order to assist such agency or entity in responding to suspected or confirmed breaches. This routine use is mandated by OMB. See OMB Memorandum No. M-17-12, at 11.

The text of proposed Routine Use 22 will be applicable to Systems of Records USDA/OIG-1, USDA/OIG-2, USDA/OIG-3, USDA/OIG-4, USDA/OIG-5, USDA/OIG-7, USDA/OIG-8, and USDA/OIG-9, and will read as follows:

22. A record from the system of records may be disclosed to another Federal agency or Federal entity, when USDA OIG determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

In accordance with 5 U.S.C. 552a(r), USDA OIG has provided a report to OMB, the Committee on Oversight and Reform of the House of Representatives, and the Committee on Homeland Security and Governmental Affairs of the Senate, on the proposed systems of records.

Dated: October 4, 2022.
Phyllis K. Fong,
Inspector General, Department of Agriculture.

Accordingly, USDA OIG is republishing the notices for all of its systems of records in their entirety, as amended, to incorporate the modifications described above, to conform to the new SORN template provided in appendix II of OMB Circular A-108, and for the convenience of interested parties, as follows:

Routine Uses

The following 22 routine uses are applicable as noted below to USDA OIG's systems of records:

1. A record from the system of records which indicates either by itself or in combination with other information, a violation or potential violation of a contract or law, whether civil, criminal, or regulatory, or which otherwise reflects on the qualifications or fitness of a licensed (or seeking to be licensed) individual, may be disclosed to a Federal, State, tribal, local, foreign, or self-regulatory agency (including but not limited to organizations such as professional associations or licensing boards), other public authority, or law enforcement task force that investigates or prosecutes or assists in such investigation, prosecution, enforcement, implementation, or issuance of the statute, rule, regulation, order, or license.

2. A record from the system of records may be disclosed to a Federal, State, tribal, local, or foreign agency, other public authority, law enforcement task force, consumer reporting agency, or professional organization maintaining civil, criminal, or other relevant enforcement or other pertinent records, such as current licenses, in order to obtain information relevant to a USDA OIG decision concerning employee retention or other personnel action, issuance of a security clearance, letting of a contract or other procurement action, issuance of a benefit, establishment of a claim, collection of a delinquent debt, or initiation of an administrative, civil, or criminal action.

3. A record from the system of records may be disclosed to a Federal, State, tribal, local, foreign, or self-regulatory agency (including but not limited to organizations such as professional associations or licensing boards), other public authority, or law enforcement task force to the extent the information is relevant and necessary to the requestor's hiring or retention of an individual or any other personnel action; issuance or revocation of a security clearance, license, grant, or other benefit; establishment of a claim; letting of a contract; reporting of an investigation of an individual; or for purposes of a suspension or debarment action, or the initiation of administrative, civil, or criminal action.

4. A record from the system of records may be disclosed to any source—private or public—to the extent necessary to secure from such source information relevant to a legitimate USDA OIG investigation, audit, or other inquiry.

5. A record from the system of records may be disclosed to the U.S. Department of Justice or in a proceeding before a court, administrative tribunal, or adjudicative body, when:

(a) USDA OIG, or any component thereof;

(b) Any employee of USDA OIG in his or her official capacity;

(c) Any employee of USDA OIG in his or her individual capacity where the Department of Justice has agreed to represent the employee; or

(d) The United States, where USDA OIG determines that litigation is likely to affect USDA or any of its components,

is a party to the litigation or has an interest in such litigation, and USDA OIG determines that use of such records is relevant and necessary to the litigation, provided, however, that in each case, USDA OIG determines that disclosure of the records is a use of the information contained in the records that is compatible with the purpose for which the records were collected.

6. A record from the system of records may be disclosed to a Member of Congress from the record of an individual in response to an inquiry from the Member of Congress made at the request of that individual. In such cases, however, the Member's right to a record is no greater than that of the individual.

7. A record from the system of records may be disclosed to the U.S. Department of Justice for the purpose of obtaining its advice on a USDA OIG audit, investigation, or other inquiry, including Freedom of Information Act or Privacy Act matters.

8. A record from the system of records may be disclosed to the Office of Management and Budget for the purpose of obtaining its advice regarding USDA OIG obligations under the Privacy Act or in connection with the review of private relief legislation.

9. A record from the system of records may be disclosed to a private firm with which USDA OIG contemplates it will contract or with which it has contracted for the purpose of performing any functions or analyses that facilitate or are relevant to a USDA OIG investigation, audit, inspection, or other inquiry. Such contractor or private firm shall be required to maintain Privacy Act safeguards with respect to such records.

10. A record from the system of records may be disclosed in response to a subpoena issued by a Federal agency having the power to subpoena records of other Federal agencies, provided the subpoena is channeled through the head of the agency, if the USDA OIG determines that: (a) The head of the agency or authorized designee signs the subpoena; (b) the subpoena specifies the information sought and the law enforcement purpose served; (c) the records are both relevant and necessary to the proceeding; and (d) such release is compatible with the purpose for which the records were collected.

11. A record from the system of records may be disclosed to a grand jury agent pursuant either to a Federal or State grand jury subpoena, or to a prosecution request that such record be released for the purpose of its introduction to a grand jury, provided that the grand jury channels its request through the cognizant U.S. Attorney, that the U.S. Attorney has been delegated the authority to make such requests by the Attorney General, and that the U.S. Attorney actually signs the letter specifying both the information sought and the law enforcement purpose served. In the case of a State grand jury subpoena, the State equivalent of the U.S. Attorney and Attorney General shall be substituted.

12. A record from the system of records may be disclosed to a Federal, State, tribal, local, or foreign agency, other public authority, or law enforcement task force for use in computer matching to prevent and detect fraud and abuse in benefit or other programs administered by any agency, to support civil and criminal law enforcement activities of any agency and its components, and to collect debts and overpayments owed to any agency and its components.

13. Relevant information from a system of records may be disclosed to the news media and general public where there exists a legitimate public interest, e.g., to assist in the location of fugitives, to provide notification of arrests, or where necessary for protection from imminent threat of life or property except to the extent USDA OIG determines that release of the specific information in the context of a particular case would constitute an unwarranted invasion of personal privacy.

14. A record may be disclosed to any official charged with the responsibility to conduct qualitative assessment, peer, or similar reviews of internal safeguards and management procedures employed in investigative, audit, and inspection and evaluation operations. This disclosure category includes members of the Council of the Inspectors General on Integrity and Efficiency (CIGIE) or any successor entity and officials and administrative staff within their chain of command, as well as authorized officials of the U.S. Department of Justice and the Federal Bureau of Investigation.

15. In the event that these records respond to an audit, investigation, or review, which is conducted pursuant to an authorizing law, rule, or regulation, and in particular those conducted at the request of CIGIE, the records may be disclosed to CIGIE or any successor entity and other Federal agencies, as necessary.

16. A record from the system of records may be disclosed to appropriate agencies, entities, and persons when: (a) USDA OIG or USDA suspects or has confirmed that there has been a breach of the system of records; (b) USDA OIG has determined that as a result of the suspected or confirmed compromise there is a risk of harm to individuals, USDA OIG or USDA (including their information systems, programs, and operations), the Federal Government, or national security; and (c) the disclosure made to such agencies, entities, and persons is reasonably necessary to assist in connection with USDA's or USDA OIG's efforts to respond to the suspected or confirmed breach or to prevent, minimize, or remedy such harm.

17. A record from the system of records may be disclosed to a Federal agency or professional organization to document continuing professional education required by the Government Auditing Standards published by the U.S. Government Accountability Office. The record must be relevant to the determination of competency and compliance with the general qualification standard for government auditing, and retention of an employee or other personnel action.

18. A record from the system of records may be disclosed to complainants and/or victims to the extent necessary to provide such persons with information and explanations concerning the progress and/or results of the investigation or case arising from the matters of which they complained and/or of which they were a victim.

19. A record from the system of records may be disclosed to a former employee of USDA OIG for purposes of: responding to an official inquiry by a Federal, State, tribal, or local government entity or professional licensing authority, in accordance with applicable USDA regulations; or facilitating communications with a former employee that may be necessary for personnel-related or other official purposes where USDA OIG requires information and/or consultation assistance from the former employee regarding a matter within that person's former area of official responsibility.

20. A record may be disclosed to members and employees of CIGIE, or any successor entity, for the preparation of reports to the President and Congress on the activities of the Inspectors General.

21. A record may be disclosed to the National Archives and Records Administration, Office of Government Information Services (OGIS), to the extent necessary to fulfill its responsibilities under 5 U.S.C. 552(h), to review administrative agency policies, procedures, and compliance with the Freedom of Information Act (FOIA), and to facilitate OGIS' offering of mediation services to resolve disputes between persons making FOIA requests and administrative agencies.

22. A record may be disclosed to another Federal agency or Federal entity, when USDA OIG determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

SYSTEM OF RECORDS

SYSTEM NAME AND NUMBER:

Employee Records, USDA/OIG-1.

SECURITY CLASSIFICATION:

None.

SYSTEM LOCATION:

In USDA OIG headquarters offices, 1400 Independence Avenue SW, Washington, DC 20250; data centers managed by the USDA, Digital Infrastructure Services Center, 8930 Ward Parkway, Kansas City, MO 64114, and 4300 Goodfellow Boulevard, Saint Louis, MO 63120; and OIG regional offices and sub-offices, listed in appendix A.

SYSTEM MANAGER(S):

Assistant Inspector General for Management, Office of Inspector General, U.S. Department of Agriculture, 1400 Independence Avenue SW, Washington, DC 20250.

AUTHORITY FOR MAINTENANCE OF THE SYSTEM:

Inspector General Act of 1978, 5 U.S.C. app. 3; 5 U.S.C. 301; 7 U.S.C. 2270.

PURPOSE(S) OF THE SYSTEM:

This system consists of records compiled for personnel, payroll, and time-reporting purposes. In addition, this system contains all records created and/or maintained about employees as required by the Office of Personnel Management (OPM) as well as documents relating to personnel matters and determinations. Retirement, life, and health insurance benefit records are collected and maintained in order to administer the Federal Employees Retirement System, Civil Service Retirement System, Federal Employees' Group Life Insurance Plan, and the Federal Employees Health Benefit Program.

CATEGORIES OF INDIVIDUALS COVERED BY THE SYSTEM:

Current OIG temporary and permanent employees, former OIG employees, and applicants for employment.

CATEGORIES OF RECORDS IN THE SYSTEM:

These records show or relate to employment, personnel management, and work-related information, including position; work schedule; classification and title; grade, pay rate, and pay; pension system; Service Computation Dates; dates of birth; veteran status; temporary and permanent addresses and telephone numbers for home and work; copies of security clearance forms; program and performance evaluations; promotions; retirement; disciplinary actions and appeals; incentive programs; unemployment compensation; leave; complaints and grievances; overpayments; health benefits; life insurance; equal employment opportunity; requests for accommodation; automation of personnel data; travel information; accident reports and related information; activity reports; participation in savings and contribution programs; availability for employment, assignment, or transfer; qualifications (for law enforcement employees this includes Attorney General designations, training certificates, physical fitness data, and medical officer's certification excluding personal medical data); awards; hours worked; issuance of credentials, passports and other identification; assignment and accountability of property and other things of value; parking space assignments; training and development; special assignments; and exit interviews.

Other employee records are covered by other systems as follows: for Official Personnel Folder (OPF) data refer to USDA/OP-1 Personnel and Payroll System for USDA Employees; for medical records, including SF-78, Certificate of Medical Examination, and drug testing records, refer to OPM/GOVT-10 Employee Medical File System; for pre-employment inquiries refer to USDA/OIG-3, Investigative Files and Automated Investigative Indices; for executive branch personnel financial disclosure statements and other ethics program records refer to OGE/GOVT-1, Executive Branch Personnel Public Financial Disclosure Reports and Other Named-Retrieved Ethics Program Records; for annual confidential financial disclosure statements refer to OGE/GOVT-2, Executive Branch Confidential Financial Disclosure Reports.

RECORD SOURCE CATEGORIES:

The primary information is furnished by the individual employee to whom it applies. Additional information is provided by supervisors, coworkers, references, and others.

ROUTINE USES OF RECORDS MAINTAINED IN THE SYSTEM, INCLUDING CATEGORIES OF USERS AND PURPOSES OF SUCH USES:

Routine Uses 1 through 13, 16, 19, 21, and 22 apply.

POLICIES AND PRACTICES FOR STORAGE OF RECORDS:

The system consists of electronic and paper records.

POLICIES AND PRACTICES FOR RETRIEVAL OF RECORDS:

The records are retrieved by an individual's name, employee identification number, and/or Social Security Number.

POLICIES AND PRACTICES FOR RETENTION AND DISPOSAL OF RECORDS:

The records are retained and disposed of in compliance with the General Records Schedule, NARA. Retention periods and disposal methods vary by record categories as set forth in NARA General Records Schedules 2.1 through 2.7.

ADMINISTRATIVE, TECHNICAL, AND PHYSICAL SAFEGUARDS:

Access to system records is limited to those individuals who have an official “need to know” for the information in the performance of their official duties. Access to electronic files is limited to username and password, use of a personal identity verification card, or through the agency's virtual private network, which restricts access using encryption techniques. Paper records are maintained in limited-access areas during duty hours and in locked offices during nonduty hours.

RECORD ACCESS PROCEDURES:

An individual may request access to a record in this system that pertains to them by submitting a written request to the Counsel to the Inspector General, Office of Inspector General, U.S. Department of Agriculture, 1400 Independence Avenue SW, Stop 2308, Washington, DC 20250-2308.

CONTESTING RECORD PROCEDURES:

An individual may contest information in this system that pertains to them by submitting a written request to the Counsel to the Inspector General, Office of Inspector General, U.S. Department of Agriculture, 1400 Independence Avenue SW, Stop 2308, Washington, DC 20250-2308.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

None.

HISTORY:

80 FR 48476 (August 13, 2015).

SYSTEM NAME AND NUMBER:

Confidential Human Source and Undercover Agent Records, USDA/OIG-2.

SECURITY CLASSIFICATION:

Sensitive but Unclassified and/or Controlled Unclassified Information.

SYSTEM LOCATION:

In USDA OIG headquarters offices, 1400 Independence Avenue SW, Washington, DC 20250; data centers managed by the USDA, Digital Infrastructure Services Center, 8930 Ward Parkway, Kansas City, MO 64114; and 4300 Goodfellow Boulevard, Saint Louis, MO 63120; and OIG regional offices and sub-offices, listed in appendix A.

SYSTEM MANAGER(S):

Assistant Inspector General for Investigations, Office of Inspector General, U.S. Department of Agriculture, 1400 Independence Avenue SW, Washington, DC 20250; and the Director, Office of Compliance and Integrity, 1400 Independence Avenue SW, Washington, DC 20250.

AUTHORITY FOR MAINTENANCE OF THE SYSTEM:

Inspector General Act of 1978, 5 U.S.C. app. 3; 5 U.S.C. 301; 7 U.S.C. 2270.

PURPOSE(S) OF THE SYSTEM:

To track the identities of, and related information regarding, confidential human sources (CHS), investigative operatives, and undercover OIG special agents and other law enforcement agency personnel.

CATEGORIES OF INDIVIDUALS COVERED BY THE SYSTEM:

CHS, investigative operatives, and undercover OIG special agents and other law enforcement agency personnel.

CATEGORIES OF RECORDS IN THE SYSTEM:

Information including names, occupations, criminal histories, and other information about CHS and investigative operatives, together with allegations against them, and the types of information previously furnished by or to be expected from them. Types, dates of issuance and destruction, and details of undercover identification documents used by OIG special agents and other law enforcement agency personnel for undercover activities.

RECORD SOURCE CATEGORIES:

This system contains materials for which sources need not be reported.

ROUTINE USES OF RECORDS MAINTAINED IN THE SYSTEM, INCLUDING CATEGORIES OF USERS AND PURPOSES OF SUCH USES:

Routine Uses 1 through 13, 16, 18, 19, 21, and 22 apply.

POLICIES AND PRACTICES FOR STORAGE OF RECORDS:

The system consists of electronic and paper records.

POLICIES AND PRACTICES FOR RETRIEVAL OF RECORDS:

The records are retrieved by name and/or identifying number of CHS, investigative operative, or OIG special agent and other law enforcement agency personnel.

POLICIES AND PRACTICES FOR RETENTION AND DISPOSAL OF RECORDS:

The records contained in this system are currently unscheduled. A record retention schedule will be developed and submitted to NARA for approval. No records will be destroyed until a NARA approved record retention schedule is in place.

ADMINISTRATIVE, TECHNICAL, AND PHYSICAL SAFEGUARDS:

Access to system records is limited to those individuals who have an official “need to know” for the information in the performance of their official duties. Electronic files stored on computer systems and applications are protected through system usernames and complex passwords and use of a personal identity verification card; all other records are kept in limited-access areas during duty hours and in locked offices during nonduty hours.

RECORD ACCESS PROCEDURES:

An individual may request access to a record in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals accessing records in the relevant system of records.

CONTESTING RECORD PROCEDURES:

An individual may contest information in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals contesting records in the relevant system of records.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: subsections (c)(3), (d), (e)(1), (e)(4)(G), (H), and (I), and (f).

HISTORY:

80 FR 48476 (August 13, 2015).

SYSTEM NAME AND NUMBER:

Investigative Files and Automated Investigative Indices System, USDA/OIG-3.

SECURITY CLASSIFICATION:

Sensitive but Unclassified and/or Controlled Unclassified Information.

SYSTEM LOCATION:

Paper files are maintained in the USDA OIG headquarters office at 1400 Independence Avenue SW, Washington, DC 20250; and in the OIG regional offices and Investigations sub-offices listed in appendix A. The OIG regional offices and Investigations sub-offices maintain paper files containing the report of investigation and the work papers for each allegation investigated by that office. The headquarters files contain a copy of every investigative report, but do not contain work papers and may not contain copies of all correspondence. Older investigative files may be stored in Federal Records Centers or on microfiche, microfilm, or electronic image filing systems. Therefore, delays in retrieving this material can be expected. Selected portions of records have been digitized—see section 1 of “Categories of records” below. These records, used as an investigative tool, are accessible to authorized OIG personnel via computer terminals located in each OIG office and secure laptop computers assigned to OIG personnel. These records are maintained in data centers managed by the USDA, Digital Infrastructure Services Center, 8930 Ward Parkway, Kansas City, MO 64114, and 4300 Goodfellow Boulevard, Saint Louis, MO 63120.

SYSTEM MANAGER(S):

Assistant Inspector General for Investigations, Office of Inspector General, U.S. Department of Agriculture, 1400 Independence Avenue SW, Washington, DC 20250; and the Director, Office of Compliance and Integrity, 1400 Independence Avenue SW, Washington, DC 20250.

AUTHORITY FOR MAINTENANCE OF THE SYSTEM:

Inspector General Act of 1978, 5 U.S.C. app. 3; 5 U.S.C. 301; 7 U.S.C. 2270.

PURPOSE(S) OF THE SYSTEM:

The records maintained in the system are used by USDA OIG in furtherance of the responsibilities of the Inspector General, pursuant to the Inspector General Act of 1978, as amended, to conduct and supervise investigations relating to USDA programs, operations, and employees, as well as contractors and other individuals and entities associated with USDA; to promote economy, efficiency, and effectiveness in the administration of such programs and operations; and to prevent and detect fraud and abuse in such programs and operations.

CATEGORIES OF INDIVIDUALS COVERED BY THE SYSTEM:

The individual names in the OIG investigative indices and investigative files fall into one or more of the following categories:

1. Subjects. These are individuals and entities against whom allegations of wrongdoing have been made. In some instances, these individuals and entities have been the subjects of preliminary inquiries or official investigations conducted by OIG to determine whether allegations are substantiated. In other instances, the allegations were deemed to lack information facilitating investigation or not within the purview of the OIG's authority to investigate.

2. Principals. These are individuals and entities who are not named subjects of investigative inquiries, but may be responsible for or involved in potential violations of administrative, civil, and/or criminal laws and regulations. For example, the responsible officers of a firm alleged to have violated laws or regulations might be individually listed in the OIG index.

3. Complainants. These are individuals and entities who may or may not have requested anonymity or confidentiality regarding their identity, and who allege administrative, civil, or criminal wrongdoing, mismanagement, or unfair treatment by USDA employees, contractors, subcontractors, grantees, or subgrantees and/or other persons or entities, relating to USDA programs. This category may include individuals also covered by the OIG Hotline Complaint Records, USDA/OIG-4, system of records.

4. Others. These are all other individuals and entities relevant to, or contacted as part of, a matter investigated by OIG.

CATEGORIES OF RECORDS IN THE SYSTEM:

Records in the OIG Investigative Files and Automated Investigative Indices System consist of:

1. Electronic records retrieved by investigation record number or alphabetically by the names of individuals, organizations, and firms. A separate record for each contains, if applicable, identification of the OIG file or files which contain information on that subject and if such information was available when the record was created or modified; the individual's name, address, sex, race, date and place of birth, relationship to the investigation, FBI or State criminal identification number, and Social Security Number;

2. Paper records containing sheets of paper or microfiche of such sheets from investigative and other reports, correspondence, and informal notes and notations concerning (a) one investigative matter or (b) a number of incidents of the same sort of alleged violation or irregularity; and

3. Where an investigation is being or will be conducted, but has not been completed, various investigation management records, investigator's notes, statements of witnesses, and copies of records. These are contained on cards and sheets of paper located in an OIG office or in the possession of the OIG investigator. Certain investigation and management records are retained electronically in the system after the investigative report is released as a means of following action taken on the basis of the OIG investigative report.

4. Electronic records pertaining to administrative, civil, or criminal forfeiture actions are also maintained by the Asset Forfeiture Unit, which include subject names and interested parties, inventories of seized items, and petitions for remission submitted by USDA on behalf of OIG.

RECORD SOURCE CATEGORIES:

This system contains materials for which sources need not be reported.

ROUTINE USES OF RECORDS MAINTAINED IN THE SYSTEM, INCLUDING CATEGORIES OF USERS AND PURPOSES OF SUCH USES:

Routine Uses 1 through 16 and 18 through 22 apply.

POLICIES AND PRACTICES FOR STORAGE OF RECORDS:

The system consists of electronic and paper records.

POLICIES AND PRACTICES FOR RETRIEVAL OF RECORDS:

Electronic records are retrieved alphabetically by subject or complainant names, OIG investigator's name, or by using the investigation record number, with each record identifying one or more OIG investigative files or administrative files arranged numerically by file number. Paper records are retrieved by subject name(s) or investigation record number, with each record identifying one or more OIG investigative files or administrative files arranged numerically by file number.

POLICIES AND PRACTICES FOR RETENTION AND DISPOSAL OF RECORDS:

The records are retained and disposed of in compliance with OIG's record disposition authority, approved by NARA (Job No. N1-016-00-3, dated October 17, 2001).

ADMINISTRATIVE, TECHNICAL, AND PHYSICAL SAFEGUARDS:

Access to system records is limited to those individuals who have an official “need to know” for the information in the performance of their official duties. Paper records are kept in limited access areas during duty hours, in locked offices during nonduty hours, or in the possession of the investigator. Electronic records are protected through use of a personal identity verification card and by requiring a confidential username and password. Investigative case files relating to closed investigations are transferred to Federal Records Centers maintained and operated by NARA.

RECORD ACCESS PROCEDURES:

An individual may request access to a record in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals accessing records in the relevant system of records.

CONTESTING RECORD PROCEDURES:

An individual may contest information in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals contesting records in the relevant system of records.

NOTIFICATION PROCEDURES:

Inquiries and requests should be addressed to the Counsel to the Inspector General, Office of Inspector General, U.S. Department of Agriculture, 1400 Independence Avenue SW, Stop 2308, Washington, DC 20250-2308.

EXEMPTIONS PROMULGATED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: subsections (c)(3), (d), (e)(1), (e)(4)(G), (H), and (I), and (f).

HISTORY:

80 FR 48476 (August 13, 2015).

SYSTEM NAME AND NUMBER:

OIG Hotline Complaint Records, USDA/OIG-4.

SECURITY CLASSIFICATION:

Sensitive but Unclassified and/or Controlled Unclassified Information.

SYSTEM LOCATION:

In USDA OIG headquarters offices at 1400 Independence Avenue SW, Washington, DC 20250; and data centers managed by the USDA, Digital Infrastructure Services Center, 8930 Ward Parkway, Kansas City, MO 64114, and 4300 Goodfellow Boulevard, Saint Louis, MO 63120.

SYSTEM MANAGER(S):

Assistant Inspector General for Investigations, Office of Inspector General, U.S. Department of Agriculture, 1400 Independence Avenue SW, Washington, DC 20250.

AUTHORITY FOR MAINTENANCE OF THE SYSTEM:

Inspector General Act of 1978, 5 U.S.C. app. 3; 5 U.S.C. 301; 7 U.S.C. 2270.

PURPOSE(S) OF THE SYSTEM:

To record complaints and allegations of wrongdoing, and requests for assistance; to document inquiries received by OIG; to compile statistical information; to provide prompt, responsive, and accurate information regarding the status of open complaints; to provide a record of complaint disposition and to record actions taken and notifications of interested parties and agencies.

CATEGORIES OF INDIVIDUALS COVERED BY THE SYSTEM:

1. Complainants are persons who report or complain of possible criminal, civil, or administrative violations of law, rule, regulation, policy, or procedure, or fraud, waste, abuse, mismanagement, gross waste of funds, or abuse of authority in USDA programs or operations or allegedly committed by USDA OIG personnel; or specific dangers to public health or safety, misuse of government property, personnel misconduct, discrimination, or other irregularities affecting USDA programs.

2. Subjects are persons against whom such complaints and allegations are made.

CATEGORIES OF RECORDS IN THE SYSTEM:

1. Identities of complainants, if known, and subjects.

2. Details of each complaint or allegation.

3. OIG complaint number and control number(s) used by Federal, State, or tribal agencies for tracking each complaint.

4. Responses from Federal, State, or tribal agencies to which complaints are referred for inquiry.

5. Summaries of substantiated information and results of OIG, Federal, State, or tribal agency inquiry into the complaint.

RECORD SOURCE CATEGORIES:

Identities of complainants and subjects are provided by individual complainants. Additional information may be provided by individual complainants, subjects, and/or third parties.

ROUTINE USES OF RECORDS MAINTAINED IN THE SYSTEM, INCLUDING CATEGORIES OF USERS AND PURPOSES OF SUCH USES:

Routine Uses 1 through 16 and 18 through 22 apply.

POLICIES AND PRACTICES FOR STORAGE OF RECORDS:

The system consists of electronic and paper records.

POLICIES AND PRACTICES FOR RETRIEVAL OF RECORDS:

The records are retrieved primarily by name of the subject, complainant, or witness; records may also be retrieved by complaint number.

POLICIES AND PRACTICES FOR RETENTION AND DISPOSAL OF RECORDS:

The records are retained and disposed of in compliance with OIG's record disposition authority, approved by NARA (Job No. N1-016-00-3, dated October 17, 2001).

ADMINISTRATIVE, TECHNICAL, AND PHYSICAL SAFEGUARDS:

Access to system records is limited to those individuals who have an official “need to know” for the information in the performance of their official duties. Paper records are kept in limited access areas during duty hours, in locked offices during nonduty hours, or in the possession of the investigator. Electronic records are protected through use of a personal identity verification card and by requiring a confidential username and password.

RECORD ACCESS PROCEDURES:

An individual may request access to a record in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals accessing records in the relevant system of records.

CONTESTING RECORD PROCEDURES:

An individual may contest information in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals contesting records in the relevant system of records.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: subsections (c)(3), (d), (e)(1), (e)(4)(G), (H), and (I), and (f).

HISTORY:

80 FR 48476 (August 13, 2015).

SYSTEM NAME AND NUMBER:

Automated Reporting and General Operations Systems (ARGOS), USDA/OIG-5.

SECURITY CLASSIFICATION:

Sensitive but Unclassified and/or Controlled Unclassified Information.

SYSTEM LOCATION:

In USDA OIG headquarters offices at 1400 Independence Avenue SW, Washington, DC 20250; data centers managed by the USDA, Digital Infrastructure Services Center, 8930 Ward Parkway, Kansas City, MO 64114, and 4300 Goodfellow Boulevard, Saint Louis, MO 63120; and accessible via remote computer terminals to authorized OIG personnel in OIG regional offices and sub-offices, listed in appendix A.

SYSTEM MANAGER(S):

Audit Subsystem—Assistant Inspector General for Audit, Office of Inspector General, U.S. Department of Agriculture, 1400 Independence Avenue SW, Washington, DC 20250.

Investigations Subsystem—Assistant Inspector General for Investigations, Office of Inspector General, U.S. Department of Agriculture, 1400 Independence Avenue SW, Washington, DC 20250.

AUTHORITY FOR MAINTENANCE OF THE SYSTEM:

Inspector General Act of 1978, 5 U.S.C. app. 3; 5 U.S.C. 301; 7 U.S.C. 2270.

PURPOSE(S) OF THE SYSTEM:

The records maintained in the system are used by USDA OIG in furtherance of the responsibilities of the Inspector General, pursuant to the Inspector General Act of 1978, as amended, to conduct and supervise audits and investigations relating to USDA programs and operations; to promote economy, efficiency, and effectiveness in the administration of such programs and operations; and to prevent and detect fraud, waste, and abuse in such programs and operations. The system is used primarily to manage investigative cases, to facilitate reporting of OIG investigative activities to Congress and other Governmental entities, and to generate audit assignment numbers.

CATEGORIES OF INDIVIDUALS COVERED BY THE SYSTEM:

OIG employees or contractors who participate in either audit or investigative assignments; subjects of investigations; principals; and others associated with investigations.

CATEGORIES OF RECORDS IN THE SYSTEM:

ARGOS provides OIG management officials with a wide range of information on audit and investigative operations. The system identifies individual assignments of employees and provides information on their use of direct and indirect time, significant dates relating to each assignment, reported dollar deficiencies, recoveries, penalties, investigative prosecutions, convictions, and other legal and administrative actions. The system also contains records of audit employee training history.

RECORD SOURCE CATEGORIES:

Information in the system is obtained from OIG employees and contractors and from various source documents related to audit and investigative activities, including assignment letters, employee time reports, and case entry sheets.

ROUTINE USES OF RECORDS MAINTAINED IN THE SYSTEM, INCLUDING CATEGORIES OF USERS AND PURPOSES OF SUCH USES:

Routine Uses 1 through 13 and 15 through 22 apply.

POLICIES AND PRACTICES FOR STORAGE OF RECORDS:

The system consists of electronic and paper records.

POLICIES AND PRACTICES FOR RETRIEVAL OF RECORDS:

Information in the system generally can be retrieved by OIG personnel in the headquarters and regional offices. Information may be retrieved by a subject's name, an OIG employee's name, an assignment number, or a geographic location.

POLICIES AND PRACTICES FOR RETENTION AND DISPOSAL OF RECORDS:

The records contained in this system are currently unscheduled. A record retention schedule will be developed and submitted to NARA for approval. No records will be destroyed until a NARA approved record retention schedule is in place.

ADMINISTRATIVE, TECHNICAL, AND PHYSICAL SAFEGUARDS:

Access to system records is limited to those individuals who have an official “need to know” for the information in the performance of their official duties. Normal computer security is maintained including password protection and use of a personal identity verification card. Paper records and source documents are maintained in limited-access areas during duty hours and in locked offices during nonduty hours.

RECORD ACCESS PROCEDURES:

An individual may request access to a record in this system that pertains to them by submitting a written request to the Counsel to the Inspector General, Office of Inspector General, U.S. Department of Agriculture, 1400 Independence Avenue SW, Stop 2308, Washington, DC 20250-2308.

CONTESTING RECORD PROCEDURES:

An individual may contest information in this system that pertains to them by submitting a written request to the Counsel to the Inspector General, Office of Inspector General, U.S. Department of Agriculture, 1400 Independence Avenue SW, Stop 2308, Washington, DC 20250-2308.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

Pursuant to 5 U.S.C. 552a(j)(2), the Investigations Subsystem and the Investigation Employee Time System of this system of records are exempted from all provisions of the Privacy Act of 1974, 5 U.S.C. 552a, as amended, except subsections (b), (c)(1) and (2), (e)(4)(A) through (F), (e)(6), (7), (9), (10), and (11), and (i). Pursuant to 5 U.S.C. 552a(k)(2) and (k)(5), the Investigations Subsystem and the Investigation Employee Time System of this system are exempted from the following provisions of the Privacy Act of 1974, 5 U.S.C. 552a: subsections (c)(3), (d), (e)(1), (e)(4)(G), (H), and (I), and (f).

HISTORY:

80 FR 48476 (August 13, 2015).

SYSTEM NAME AND NUMBER:

USDA/OIG-6, reserved for future use.

SYSTEM NAME AND NUMBER:

Freedom of Information Act and Privacy Act Request Records, USDA/OIG-7.

SECURITY CLASSIFICATION:

None.

SYSTEM LOCATION:

In the USDA OIG headquarters office at 1400 Independence Avenue SW, Washington, DC 20250; and data centers managed by the USDA, Digital Infrastructure Services Center, 8930 Ward Parkway, Kansas City, MO 64114, and 4300 Goodfellow Boulevard, Saint Louis, MO 63120.

SYSTEM MANAGER(S):

Counsel to the Inspector General, Office of Counsel, Office of Inspector General, U.S. Department of Agriculture, 1400 Independence Avenue SW, Stop 2308, Washington, DC 20250-2308.

AUTHORITY FOR MAINTENANCE OF THE SYSTEM:

Inspector General Act of 1978, 5 U.S.C. app. 3; 5 U.S.C. 301; 5 U.S.C. 552; 5 U.S.C. 552a.

PURPOSE(S) OF THE SYSTEM:

To assist OIG in carrying out its responsibilities under the Freedom of Information Act and the Privacy Act.

CATEGORIES OF INDIVIDUALS COVERED BY THE SYSTEM:

This system contains records of individuals who have submitted requests and administrative appeals under the Freedom of Information Act and/or the Privacy Act.

CATEGORIES OF RECORDS IN THE SYSTEM:

The records consist of the incoming request, all correspondence developed during the processing of the request, the final reply, and any incoming requests and responses for FOIA appeals, including any litigation in U.S. District Court, and in some instances copies of requested records and records under administrative appeal.

RECORD SOURCE CATEGORIES:

Information in this system comes from the individual submitting the request or administrative appeal and from OIG employees processing the request or administrative appeal. Records in this system may have originated in other USDA OIG systems of records.

ROUTINE USES OF RECORDS MAINTAINED IN THE SYSTEM, INCLUDING CATEGORIES OF USERS AND PURPOSES OF SUCH USES:

Routine Uses 7, 16, 19, 21 and 22 apply.

POLICIES AND PRACTICES FOR STORAGE OF RECORDS:

The system consists of electronic and paper records.

POLICIES AND PRACTICES FOR RETRIEVAL OF RECORDS:

The records are retrieved by requester or appellant name and/or by using a unique control number that is assigned to the request or administrative appeal upon date of receipt.

POLICIES AND PRACTICES FOR RETENTION AND DISPOSAL OF RECORDS:

The records are retained and disposed of in compliance with the General Records Schedule, NARA. Retention periods and disposal methods vary by record categories as set forth in NARA General Records Schedule 4.2, Information Access and Protection Records.

ADMINISTRATIVE, TECHNICAL, AND PHYSICAL SAFEGUARDS:

Access to system records is limited to those individuals who have an official “need to know” for the information in the performance of their official duties. Freedom of Information Act and Privacy Act request records are stored in file cabinets in limited-access areas during duty hours and in locked offices during nonduty hours. Electronic records maintained in a secure computer system are protected through system usernames, passwords, and use of a personal identity verification card. The computer server is maintained in a secure, access-controlled area within an access-controlled building.

RECORD ACCESS PROCEDURES:

An individual may request access to a record in this system that pertains to them by submitting a written request to the Counsel to the Inspector General, Office of Inspector General, U.S. Department of Agriculture, 1400 Independence Avenue SW, Stop 2308, Washington, DC 20250-2308.

CONTESTING RECORD PROCEDURES:

An individual may contest information in this system that pertains to them by submitting a written request to the Counsel to the Inspector General, Office of Inspector General, U.S. Department of Agriculture, 1400 Independence Avenue SW, Stop 2308, Washington, DC 20250-2308.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

None.

HISTORY:

80 FR 48476 (August 13, 2015).

SYSTEM NAME AND NUMBER:

Office of Analytics and Innovation's (OAI) Holistic Information Analytics and Visualization Environment (HIAVE) System, USDA/OIG-8.

SECURITY CLASSIFICATION:

None.

SYSTEM LOCATION:

USDA, Digital Infrastructure Services Center, 8930 Ward Parkway, Kansas City, MO 64114, and 4300 Goodfellow Boulevard, Saint Louis, MO 63120.

SYSTEM MANAGER(S):

Assistant Inspector General for Analytics and Innovation, Office of Inspector General, U.S. Department of Agriculture, 1400 Independence Avenue SW, Washington, DC 20250.

AUTHORITY FOR MAINTENANCE OF THE SYSTEM:

Inspector General Act of 1978, 5 U.S.C. app. 3; 5 U.S.C. 301.

PURPOSE(S) OF THE SYSTEM:

The records maintained in this system are used by OIG to fulfill its statutory mission under the Inspector General Act, as amended, to conduct, supervise, and coordinate audits, inspections, and investigations relating to the programs and operations of USDA; and to promote economy, efficiency, and effectiveness in the administration of, and prevent and detect fraud, waste, and abuse in, the programs and operations of USDA. The system will use data that OIG has the legal authority to obtain and maintain to perform advanced statistical techniques and data modeling for indications of fraud, waste, and abuse, and internal control weaknesses.

CATEGORIES OF INDIVIDUALS COVERED BY THE SYSTEM:

Individuals who have applied for or received benefits, grants, payments, contracts, loans, and salary from USDA; those individuals who provided benefits or services under a program administered by USDA; individuals who are associated with various Federal or State programs and whose actions impact USDA; USDA employees, consultants, contractors, grantees, advisory committee members, and others who receive funds from the Department for performing services; individuals who have transacted with, utilized, or are covered by a USDA agency or program, and their surviving spouses, children, dependent parents and siblings; individuals who have transacted with, utilized, or are covered under a program of another Federal or State agency that is associated with a USDA program, and their surviving spouses, children, dependent parents and siblings; individuals alleged to have violated laws, regulations, or policies relating to USDA programs; individuals involved with hearings or inquiries relating to USDA programs; and Federal employees who apply for and/or utilize Government programs or receive or expend funds in an official capacity for USDA.

CATEGORIES OF RECORDS IN THE SYSTEM:

The system includes but is not limited to names, Social Security Numbers, dates of birth, addresses, telephone numbers, email addresses, benefits information, application information, payments, banking and financial information, contracts, loans, salary, travel, hearings, inquiries, investigations, audits, reviews, and other records relevant to benefits or programs administered by USDA or associated Federal or State programs. The system also includes resulting business intelligence and risk analysis platforms and tools.

RECORD SOURCE CATEGORIES:

Information in this system will include records obtained from systems of records maintained by USDA or other Federal agencies; individuals; non-Government, commercial, public, and private agencies and organizations; and publicly-available databases.

ROUTINE USES OF RECORDS MAINTAINED IN THE SYSTEM, INCLUDING CATEGORIES OF USERS AND PURPOSES OF SUCH USES:

Routine Uses 1 through 16, and 19 through 22 apply.

POLICIES AND PRACTICES FOR STORAGE OF RECORDS:

The records are maintained in electronic form.

POLICIES AND PRACTICES FOR RETRIEVAL OF RECORDS:

Records in this system of records may be retrieved by any identifying information of an individual or institution.

POLICIES AND PRACTICES FOR RETENTION AND DISPOSAL OF RECORDS:

Records obtained from USDA are maintained and disposed of in accordance with the General Records Schedules, NARA, or the Department's record disposition authority applicable to the records. A new records retention and disposition schedule is under development for OIG. Until NARA approves a retention and disposition schedule for these records, OIG will not destroy any records.

ADMINISTRATIVE, TECHNICAL, AND PHYSICAL SAFEGUARDS:

Access to system records is limited to those individuals who have an official “need to know” for the information in the performance of their official duties. Electronic records maintained in a secure computer system are protected through system usernames and passwords, use of a personal identity verification card, and encryption. The computer server is maintained in a secure, access-controlled area within an access-controlled building.

RECORD ACCESS PROCEDURES:

An individual may request access to a record in this system which pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals accessing records in the relevant system of records.

CONTESTING RECORD PROCEDURES:

An individual may contest information in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals contesting records in the relevant system of records.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

No exemptions are applicable to records created by OIG in this system. For individual records originating within a USDA or other Federal agency system of records, OIG will continue to apply any applicable Privacy Act exemptions to those individual records.

HISTORY:

USDA OIG updated and published its system of records notices in their entirety on August 13, 2015 (80 FR 48476). System of Records USDA/OIG-8, originally established on March 5, 2009 (74 FR 9584), was included and updated in that consolidated notice. OIG subsequently modified the system of records on January 23, 2017 (82 FR 7795).

SYSTEM NAME AND NUMBER:

Audit Records, USDA/OIG-9.

SECURITY CLASSIFICATION:

None.

SYSTEM LOCATION:

In USDA OIG headquarters offices, 1400 Independence Avenue SW, Washington, DC 20250; data centers managed by the USDA, Digital Infrastructure Services Center, 8930 Ward Parkway, Kansas City, MO 64114, and 4300 Goodfellow Boulevard, Saint Louis, MO 63120; and OIG Audit regional offices and sub-offices, listed in appendix A.

SYSTEM MANAGER(S):

Assistant Inspector General for Audit, Office of Inspector General, U.S. Department of Agriculture, 1400 Independence Avenue SW, Washington, DC 20250.

AUTHORITY FOR MAINTENANCE OF THE SYSTEM:

Inspector General Act of 1978, 5 U.S.C. app. 3; 5 U.S.C. 301.

PURPOSE(S) OF THE SYSTEM:

The purpose of this system is to maintain a management information system for USDA OIG audit projects and personnel and to assist in the accurate and timely conduct of audits.

CATEGORIES OF INDIVIDUALS COVERED BY THE SYSTEM:

Individuals covered consist of: (1) USDA program participants and USDA employees who are associated with an activity that OIG is auditing or reviewing; (2) requesters of an OIG audit or other activity; and (3) persons and entities performing some other role of significance to the OIG's efforts, such as relatives or business associates of USDA program participants or employees, potential witnesses, or persons who represent legal entities that are connected to an OIG audit or other activity. The system also tracks information pertaining to OIG staff handling the audit or other activity, and may contain names of relevant staff in other agencies and private sector entities.

CATEGORIES OF RECORDS IN THE SYSTEM:

Records consist of materials compiled and/or generated in connection with audits and other activities performed by OIG staff. These materials include work papers and information regarding the planning, conduct, and resolution of audits and reviews of USDA programs and participants in those programs, internal legal assistance requests, information requests, responses to such requests, and reports of findings.

RECORD SOURCE CATEGORIES:

Information in the system is obtained from various source documents related to audits, including USDA, other Federal agencies, the Government Accountability Office, law enforcement agencies, program participants including individuals and business entities, subject individuals, complainants, witnesses, and other non-governmental sources.

ROUTINE USES OF RECORDS MAINTAINED IN THE SYSTEM, INCLUDING CATEGORIES OF USERS AND PURPOSES OF SUCH USES:

Routine Uses 1 through 16 and 19 through 22 apply.

POLICIES AND PRACTICES FOR STORAGE OF RECORDS:

The system consists of electronic and paper records.

POLICIES AND PRACTICES FOR RETRIEVAL OF RECORDS:

Information in the system generally can be retrieved by OIG personnel in the headquarters and regional offices. Information is generally retrieved by audit assignment number. However, information can be retrieved by using alphanumeric queries and personal identifiers.

POLICIES AND PRACTICES FOR RETENTION AND DISPOSAL OF RECORDS:

The records are retained and disposed of in compliance with OIG's record disposition authority, approved by NARA (Job No. N1-016-00-3, dated October 17, 2001).

ADMINISTRATIVE, TECHNICAL, AND PHYSICAL SAFEGUARDS:

Access to system records is limited to those individuals who have an official “need to know” for the information in the performance of their official duties. Normal computer security is maintained including password protection and use of a personal identity verification card. Paper records are kept in limited-access areas during duty hours and in locked offices during nonduty hours.

RECORD ACCESS PROCEDURES:

An individual may request access to a record in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals accessing records in the relevant system of records.

CONTESTING RECORD PROCEDURES:

An individual may contest information in this system that pertains to them by submitting a written request to the Counsel to the Inspector General, Office of Inspector General, U.S. Department of Agriculture, 1400 Independence Avenue SW, Stop 2308, Washington, DC 20250-2308. This system may contain records originally collected by USDA and other Federal agencies, and governed by USDA or other Federal agency system of records notices. Where appropriate, coordination with the appropriate USDA agency, or consultation with the applicable Federal agency procedures, will be effected regarding individuals contesting records in the relevant system of records.

NOTIFICATION PROCEDURES:

Any individual may request information regarding this system of records, or information as to whether the system contains records pertaining to them, from the Counsel to the Inspector General, Office of Inspector General, U.S. Department of Agriculture, 1400 Independence Avenue SW, Stop 2308, Washington, DC 20250-2308.

EXEMPTIONS PROMULGATED FOR THE SYSTEM:

None.

HISTORY:

80 FR 48476 (August 13, 2015).

Appendix A

OIG/Investigations Regional Offices

Northeast Region: 26 Federal Plaza, Room 1409, New York, New York 10278

Southeast Region: 401 W Peachtree Street NW, Room 2329, Atlanta, Georgia 30308

Midwest Region: 11 West Quincy Court, Suite 275, Chicago, Illinois 60604

Southwest Region: 101 S Main Street, Room 311, Temple, Texas 76501

Western Region: 1301 Clay Street, Suite 1580S, Dellums Federal Building, Oakland, California 94612

OIG/Audit Regional Offices

Eastern Region: 10301 Baltimore Avenue, Suite 4200, Beltsville, Maryland 20705

Midwestern Region: 8930 Ward Parkway, Suite 3016, Kansas City, Missouri 64114

Western Region: 1301 Clay Street, Suite 1580S, Dellums Federal Building, Oakland, California 94612

OIG/Investigations Sub-offices

700 W Capitol Avenue, Room 2518, Little Rock, Arkansas 72201

401 W Washington Street, Space 77, Suite 425, Phoenix, Arizona 85003

21660 Copley Drive, Suite 370, Diamond Bar, California 91765

2440 Tulare Street, Suite 230, Fresno, California 93721

501 I Street, Suite 12-200, Sacramento, California 95814

1 Denver Federal Center, Building 67, Room 112, Denver, Colorado 80225

299 E Broward Boulevard, Room 210, Ft. Lauderdale, Florida 33301

P.O. Box 952973, Lake Mary, Florida 32795

210 Walnut Street, Suite 573, Des Moines, Iowa 50309

601 West Broadway, Room 617, Louisville, Kentucky 40202

600 S Maestri Place, Room 833, New Orleans, Louisiana 70130

10301 Baltimore Avenue, Suite 4200, Beltsville, Maryland 20705

2852 Eyde Parkway, Suite 220, East Lansing, Michigan 48823

1 Federal Drive, Suite G-603, Fort Snelling, Minnesota 55111

111 E Capitol Street, Suite 425, Jackson, Mississippi 39201

8930 Ward Parkway, Suite 3016, Kansas City, Missouri 64114

1222 Spruce Street, Room 2.202E, St. Louis, Missouri 63103

100 Centennial Mall North, Room 290, Lincoln, Nebraska 68508

1 Stiles Road, Suite 304, Salem, New Hampshire 03079

344 W Genesee Street, Suite 202, Syracuse, New York 13202

4407 Bland Road, Suite 203, Raleigh, North Carolina 27609

304 E Broadway, Room 336, Bismarck, North Dakota 58501

201 Superior Avenue, Suite 550, Cleveland, Ohio 44114

215 Dean A. McGee Avenue, Suite 609, Oklahoma City, Oklahoma 73102

100 SW Main Street, Suite 625, Portland, Oregon 97204

660 American Avenue, Suite 201, King of Prussia, Pennsylvania 19406

700 Grant Street, Suite 2110, Pittsburgh, Pennsylvania 15219

167 N Main Street, Suite B-312, Memphis, Tennessee 38103

1114 Commerce Street, Santa Fe Building, Suite 202, Dallas, Texas 75242

400 N 8th Street, Room 526, Richmond, Virginia 23219

33810 Weyerhaeuser Way S, Suite 170, Federal Way, Washington 98001

OIG/Audit Sub-offices

501 I Street, Suite 12-200, Sacramento, California 95814

401 W Peachtree Street NW, Room 2328, Atlanta, Georgia 30308

11 W Quincy Court, Suite 275, Chicago, Illinois 60604

4407 Bland Road, Suite 200, Raleigh, North Carolina 27609

100 SW Main Street, Suite 625, Portland, Oregon 97204

1114 Commerce Street, Santa Fe Building, Suite 202, Dallas, Texas 75242

101 S Main Street, Suite 324, Temple, Texas 76501

[FR Doc. 2022-22005 Filed 10-12-22; 8:45 am]

BILLING CODE 3410-23-P